DEPARTMENT OF TRANSPORTATION

Federal Aviation Administration

14 CFR Part 135

[Docket No. FAA-2011-1397]

Clarification of Policy Regarding Approved Training Programs

AGENCY: Federal Aviation Administration (FAA), Department of Transportation (DOT).

ACTION: Notice of availability; request for comment.

SUMMARY: This document announces the availability of an FAA Notice that would require FAA inspectors to review 14 CFR part 135 approved training programs to identify and correct those programs which erroneously issued credit for previous training or checking. The document also provides guidance on constructing reduced hour training programs based on previous experience. Upon review of the comments and any necessary revision, this document would cancel and replace FAA Order 8900.1, Volume 3, Chapter 19, Paragraph 3-1111.

DATES: Written comments must be received on or before February 27, 2012.

ADDRESSES: Send comments identified by docket number FAA-2011-1397 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Robert Burke, Air Carrier Training Branch, Air Transportation Division, Flight Standards Service, Federal Aviation Administration, 800 Independence Avenue SW., Washington, DC 20591; telephone: (202) 267-8262; facsimile: (202) 267-5229; email: robert.burke@faa.gov.

SUPPLEMENTARY INFORMATION: FAA Order 8900.1, Flight Standards Information Management System, was issued on September 13, 2007. This order consolidated and replaced FAA Orders 8300.1, 8400.1, and 8700.1, the FAA's guidance to inspectors. There have been numerous inquiries by part 135 certificate holders regarding the acceptance of training/evaluations previously completed by a crewmember while in the employment of another certificate holder. Regulations do not permit the crediting of such training (with the specific exception of CRM and DRM training).

Additionally, some training centers have distributed a training program template that provides credit for training/evaluations conducted by another operator. Such provisions are contrary to the intent as well as the technical provisions of part 135 and are not appropriate for inclusion in a certificate holder's approved training program.

Part 135 certificate holders may develop and submit for approval multiple curriculums for a particular crewmember position and aircraft make/model/variant. For example, a part 135 certificate holder may have a an initial new-hire curriculum designed to meet the requirements of new hire crewmembers that have minimal flight time, no previous part 135 experience, or do not have qualifications related to the certificate holder's operational environment. The certificate holder may then also apply for a reduced new hire curriculum for pilots that have previous experience as a crewmember in part 135 operations and/or the particular aircraft and duty position. The second curriculum in this example may have less training hours due to the crewmember's extensive experience. Each of these curriculums would also have detailed prerequisites to define the level of experience required to enter into either of these new hire programs. There are no hour requirements which need to be defined on a reduced training program, however all the training elements of the certificate holder's full initial training program must be accomplished as well as the qualification module.

While the FAA generally does not request comment on internal Notices and orders, the agency has established a docket for public comments regarding this guidance for inspectors in recognition of the interest of current 14 CFR part 135 certificate holders. The agency will consider all comments received by January 26, 2012. Comments received after that date may be considered if consideration will not delay agency action on the review. A copy of the proposed order is available for review in the assigned docket for the Order at http://www.regulations.gov.

Issued in Washington, DC on December 13, 2011.
John S. Duncan,
Acting Deputy Director, FAA Flight Standards Service.

[FR Doc. 2011-33091 Filed 12-23-11; 8:45 am]

BILLING CODE 4910-13-P